ENVIRONMENTAL PROTECTION AGENCY

[FRL-7217-2]

National Environmental Justice Advisory Council, Indigenous Peoples Subcommittee; Notification of Meeting

Pursuant to the Federal Advisory Committee Act (FACA), Public Law 92-463, we now give notice that the National Environmental Justice Advisory Council (NEJAC), Indigenous Peoples Subcommittee (IPS) will meet on the dates and times described below. All times noted are Mountain Time. All meetings are open to the public. Due to limited space, seating at the NEJAC/IPS meeting will be on a first-come basis. Documents that are the subject of NEJAC reviews are normally available from the originating EPA office and are not available from the NEJAC. The IPS meetings will take place at the John Ascuaga's Nugget, 1100 Nugget Avenue, Sparks, Nevada 89431. The meeting date and time is as follows: June 6 (1:30 PM-6:00 PM), 2002. The IPS will be focusing on the development of its two year strategic plan, and will discuss recommendations for EPA on support for tribes seeking to address environmental justice issues. Any member of the public wishing additional information on the subcommittee meeting, or who plans on attending the meeting should contact Mr. Daniel Gogal, IPS Designated Federal Officer, EPA Office of Environmental Justice, (202) 564-2576.

Dated: May 14, 2002.
Barry E. Hill,
Director, Office of Environmental Justice.

[FR Doc. 02-12970 Filed 5-22-02; 8:45 am]

BILLING CODE 6560-50-P